FEDERAL COMMUNICATIONS COMMISSION

47 CFR Part 73

[DA 01-1660; MM Docket No. 99-240; RM-9503]

Radio Broadcasting Services; Albemarle and Indian Trail, NC

AGENCY: Federal Communications Commission.

ACTION: Final rule.

SUMMARY: In response to a Notice of Proposed Rule Making, 64 FR 37925 (July 14, 1999), this document reallots Channel 265A from Albemarle, NC to Indian Trail, NC, as Indian Trail's first local aural transmission service. The coordinates for Channel 265A at Indian Trail are 35-06-53 North Latitude and 80-33-44 West Longitude.

DATES: Effective September 6, 2001.

FOR FURTHER INFORMATION CONTACT: R. Barthen Gorman, Mass Media Bureau, (202) 418-2180.

SUPPLEMENTARY INFORMATION: This is a synopsis of the Commission's Report and Order, MM Docket No. 99-240, adopted July 11, 2001, and released July 13, 2001. The full text of this Commission decision is available for inspection and copying during normal business hours in the FCC's Reference Information Center at Portals II, CY-A257, 445 12th Street, SW, Washington, DC. The complete text of this decision may also be purchased from the Commission's copy contractors, International Transcription Service, Inc., (202) 857-3800, located at 1231 20th Street, NW., Washington, DC 20036.

List of Subjects in 47 CFR Part 73

Radio broadcasting.

Part 73 of Title 47 of the Code of Federal Regulations is amended as follows:

PART 73—RADIO BROADCASTING SERVICE

1. The authority citation for Part 73 reads as follows:

Authority: 47 U.S.C. 154, 303, 334, 336.

§ 73.202 [Amended]

2. Section 73.202(b), the Table of FM Allotments under North Carolina, is amended by adding Indian Trail, Channel 265A, and removing Albemarle, Channel 265A.

Federal Communications Commission.
John A. Karousos,
Chief, Allocations Branch, Policy and Rules Division, Mass Media Bureau.

[FR Doc. 01-18349 Filed 7-26-01; 8:45 am]

BILLING CODE 6712-01-P